FEDERAL EMERGENCY MANAGEMENT AGENCY

44 CFR Part 65

[Docket No. FEMA-D-7519]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Connecticut: | Fairfield | Town of Greenwich | December 21, 2001; December 28, 2001; Greenwich Times | Mr. Richard Bergstresser, First Selectman for the Town of Greenwich, 101 Field Point Road, Greenwich, Connecticut 06830 | December 7, 2001 | 090008 C
New Haven | City of Meriden | November 30, 2001; December 7, 2001; Record-Journal | The Honorable Joseph J. Marinan, Jr., Mayor of the City of Meriden, 142 East Main Street, Meriden, Connecticut 06450-8022 | November 19, 2001 | 090081 C
Florida: Duval | City of Jacksonville | August 1, 2001; August 8, 2001; Financial News and Daily Record | The Honorable John A. Delaney, Mayor of the City of Jacksonville, City Hall, 117 West Duval Street, Suite 400, Jacksonville, Florida 32202 | December 4, 2001 | 120077 E
Indiana: | Lake | Town of Dyer | December 14, 2001; December 21, 2001; Daily Herald | Mr. Glen Eberly, President, Town of Dyer Board of Trustees, One Town Square, Dyer, Indiana 46311 | December 6, 2001 | 180129 D
Noble | Unincorporated Areas | December 19, 2001; The News-Sun | Mr. Mark Pankap, President, Noble County Board of Commissioners, Noble County Courthouse, 101 North Orange Street, Albion, Indiana 46701 | January 18, 2002 | 180183 A
Lake | Town of Schererville | December 14, 2001; December 21, 2001; Daily Herald | Mr. Richard Kramer, Manager of the Town of Schererville, 833 West Lincoln Highway, Suite B20W, Schererville, Indiana 46375 | December 6, 2001 | 180142 B
Maine: | Aroostook | Town of Fort Fairfield | November 28, 2001; December 5, 2001; Fort Fairfield Press | Mr. Dan K. Foster, Manager of the Town of Fort Fairfield, P.O. Box 350, Fort Fairfield, Maine 04742 | November 19, 2001 | 230018 B
Knox | Town of North Haven | November 22, 2001; November 29, 2001; The Courier-Gazette | Mr. Dake Collins, Town of North Haven Administrator, P.O. Box 400, North Haven, Maine 04853 | November 13, 2001 | 230228 B
Pennsylvania: Carbon | Township of East Penn | November 2, 2001; November 9, 2001; Times News | Mr. Gordon Scherer, Chairman of the Township of East Penn Board of Supervisors, 167 Municipal Road, Lehighton, Pennsylvania 18253 | October 23, 2001 | 421013 B

(Catalog of Federal Domestic Assistance No. 83.100, “Flood Insurance.”)

Dated: January 29, 2002.
Robert F. Shea,
Acting Administrator, Federal Insurance and Mitigation Administration.

[FR Doc. 02-2669 Filed 2-4-02; 8:45 am]

BILLING CODE 6718-04-P